DEPARTMENT OF COMMERCE

National Oceanic and Atmospheric Administration

[RTID 0648-XA034]

South Atlantic Fishery Management Council; Public Meeting

AGENCY: National Marine Fisheries Service (NMFS), National Oceanic and Atmospheric Administration (NOAA), Commerce.

ACTION: Notice of public meetings.

SUMMARY: The South Atlantic Fishery Management Council (Council) will hold meetings of the following: Habitat Protection and Ecosystem-Based Management Committee; Mackerel Cobia Committee; Shrimp Committee; Dolphin Wahoo Committee; Statement of Organization Practices and Procedures (SOPPs) Committee (Closed Session); Executive Finance Committee; and Snapper Grouper Committee. The meeting week will also include a meeting of the Committee of the Whole, a formal public comment session, and a meeting of the Full Council.

DATES: The meetings will be held from 1:30 p.m. on Monday, March 2, 2020 until 11:30 a.m. on Friday, March 6, 2020.

ADDRESSES:

Meeting address: The meeting will be held at the Westin Jekyll Island, 110 Ocean Way, Jekyll Island, GA 31527; phone: (912) 635-4545.

Council address: South Atlantic Fishery Management Council, 4055 Faber Place Drive, Suite 201, N Charleston, SC 29405.

FOR FURTHER INFORMATION CONTACT: Kim Iverson, Public Information Officer, SAFMC; phone: (843) 302-8440 or toll free (866) SAFMC-10; fax: (843) 769-4520; email: kim.iverson@safmc.net. Meeting information is available from the Council's website at: http://safmc.net/safmc-meetings/council-meetings/.

SUPPLEMENTARY INFORMATION:

Public comment: Written comments may be directed to John Carmichael, Executive Director, South Atlantic Fishery Management Council (see Council address) or electronically via the Council's website at http://safmc.net/safmc-meetings/council-meetings/. Comments received by close of business the Monday before the meeting (2/24/20) will be compiled, posted to the website as part of the meeting materials, and included in the administrative record; please use the Council's online form available from the website. For written comments received after the Monday before the meeting (after 2/24/20), individuals submitting a comment must use the Council's online form available from the website. Comments will automatically be posted to the website and available for Council consideration. Comments received prior to noon on Thursday, March 5, 2020 will be a part of the meeting administrative record.

The items of discussion in the individual meeting agendas are as follows:

Committee of the Whole—Monday, March 2, 2020, 1:30 p.m. until 5:30 p.m. and Tuesday, March 3, 2020, 8:30 a.m. until 5 p.m.

1. The Committee will receive an overview of proposed management changes in the Florida Keys National Marine Sanctuary (FKNMS) Restoration Blueprint, a presentation from the Florida Fish and Wildlife Commission (FWC) regarding the proposed measures, an update from FKNMS staff, and an overview of the Council's role regarding the measures in the Restoration Blueprint from NOAA General Counsel. The Committee will discuss and take action as appropriate.

2. The Committee will also receive a staff presentation on analysis of the need for conservation and management of selected species, discuss and provide recommendations as needed.

3. The Committee will receive a presentation from staff providing background information on allocations, consider allocation approaches and annual catch limits (ACLs), and provide guidance to staff as appropriate.

Habitat Protection and Ecosystem-Based Management Committee—Wednesday, March 4, 2020, 8:30 a.m. until 9:30 a.m.

1. The Committee will receive an update on Council actions relative to habitat and ecosystems, receive a report from the November 2019 meeting of the Habitat Advisory Panel, and provide guidance to staff.

Mackerel Cobia Committee, Wednesday, March 4, 2020, 9:30 a.m. until 12 p.m.

1. The Committee will receive an update on the status of commercial landings and amendments currently under formal Secretarial review.

2. The Committee will receive an overview of Framework Amendment 9 to the Coastal Migratory Pelagic Resources Fishery Management Plan addressing Spanish mackerel commercial trip limits in the Northern Zone, review public hearing comments, and consider approving the amendment for Secretarial review.

Shrimp Committee, Wednesday, March 4, 2020, 1:30 p.m. until 2:30 p.m.

1. The Committee will receive an overview of Amendment 11 to the Shrimp Fishery Management Plan (FMP) addressing transit provisions for penaeid shrimp vessels, recommendations from the Council's Shrimp Advisory Panel and Law Enforcement Advisory Panel, review public hearing comments, and discuss and consider approving the amendment for final Secretarial review.

Dolphin Wahoo Committee, Tuesday, March 3, 2020, 2:30 p.m. until 3:45 p.m.

1. The Committee will receive updates from NOAA Fisheries on the status of commercial landings.

2. The Committee will receive an overview of draft Amendment 12 to the Dolphin Wahoo FMP with measures to add bullet mackerel and frigate mackerel as Ecosystem Component species to the Dolphin Wahoo FMP and provide guidance to staff.

3. The Committee will receive an update from staff on the Dolphin Wahoo Participatory Workshops.

Formal Public Comment, Wednesday, March 4, 2020, 4 p.m.—Public comment will be accepted on items on the Council meeting agenda scheduled to be approved for Secretarial Review: Amendment 11 to the Shrimp FMP (penaeid shrimp transit provisions); and Coastal Migratory Pelagic Resources Framework Amendment 9 (Spanish mackerel Northern Zone trip limits). Public comment will also be accepted on all other agenda items. The Council Chair, based on the number of individuals wishing to comment, will determine the amount of time provided to each commenter.

SOPPs Committee, Thursday, March 5, 2020, 8:30 a.m. until 9:30 a.m. (Closed Session)

1. The Committee will discuss revisions to the Council's travel policy and Handbook and provide recommendations for Council consideration.

Executive Finance Committee, Thursday, March 5, 2020, 9:30 a.m. until 10:30 a.m.

1. The Committee will address the Council follow-up and priorities listing, receive an update from staff on the Gulf-South Atlantic Recreational Flexibility Workgroup, and an update on Council Policies and Practices. The Committee will discuss and take action as appropriate.

Snapper Grouper Committee, Thursday, March 5, 2020, 10:30 a.m. until 12 p.m.

1. The Committee will receive updates from NOAA Fisheries on commercial landings and the status of amendments under formal Secretarial review.

2. The Committee will receive an update from NOAA Fisheries on modifications to the red snapper seasons as addressed in Snapper Grouper Regulatory Amendment 33 (removing the minimum number of days requirement for opening the season) and the 2020 red snapper season.

3. The Committee will receive an overview of Snapper Grouper Regulatory Amendment 34 addressing proposed Special Management Zones in North Carolina and South Carolina and consider approving the amendment for public hearings.

4. The Committee will provide topics to be addressed on the agenda for the next meeting of the Snapper Grouper Advisory Panel.

Council Session: Thursday, March 5, 2020, 1:30 p.m. until 5 p.m. and Friday, March 6, 2020, 8:30 a.m. until 11:30 a.m.

The Full Council will begin with the Call to Order, adoption of the agenda, and approval of minutes. The Council will receive a legal briefing during Closed Session if needed.

The Council will receive a presentation on Shark Depredation from NOAA Fisheries Highly Migratory Species Division staff.

The Council will receive staff reports including the Executive Director's Report, updates on the MyFishCount recreational reporting pilot program, a report on the Council's System Management Plan (SMP), and an update on the Citizen Science Program.

Presentations will be provided by NOAA Fisheries Southeast Regional Office staff including a report on the status of commercial landings for species not covered during an earlier committee meeting, bycatch reporting, protected resources, and a presentation on the status of the of the For-Hire Electronic Reporting Amendment. NOAA Fisheries Southeast Fisheries Science Center staff will provide a presentation on the status of the Commercial Electronic Logbook Program and updates on the Atlantic Science Coordination Workshop, the Fishery Independent Surveys Workshop, and changes to the Marine Recreational Information Program (MRIP) weight estimates.

The Council will discuss and take action as necessary.

The Council will review any Exempted Fishing Permits received as necessary.

The Council will receive an update on the Kitty Hawk Wind Project.

The Council will receive reports from the following committees: Committee of the Whole; Shrimp; Habitat; Mackerel Cobia; Snapper Grouper; Dolphin Wahoo; SOPPs, and Executive Finance. The Council will take action as appropriate.

The Council will receive agency and liaison reports; and discuss other business and upcoming meetings and take action as necessary.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 5 days prior to the meeting.

Note: The times and sequence specified in this agenda are subject to change.

Authority: 16 U.S.C. 1801 et seq.

Dated: February 7, 2020.
Tracey L. Thompson,
Acting Deputy Director, Office of Sustainable Fisheries, National Marine Fisheries Service.

[FR Doc. 2020-02772 Filed 2-11-20; 8:45 am]

BILLING CODE 3510-22-P